ENVIRONMENTAL PROTECTION AGENCY

[FRL-6725-1]

Meeting of the Mobile Sources Technical Review Subcommittee

AGENCY: Environmental Protection Agency (EPA).

ACTION: Notice of meeting.

SUMMARY: Pursuant to the Federal Advisory Committee Act, Public Act, Public Law 92-463, notice is hereby given that the Mobile Sources Technical Review Subcommittee of the Clean Air Act Advisory Committee will meet in a regular quarterly session. This is an open meeting. The theme will be “Modeling.” The meeting may include presentations on the impact and significance of such sources on air quality and public health from several perspectives, e.g., EPA, CARB and the regulated industry, an update on EPA's computer model and a discussion of regulatory initiatives. The preliminary agenda for this meeting and draft minutes from the previous one are available from the Subcommittee's website at: http://transaq.ce.gatech.edu/epatac

DATES: Wednesday, July 12, 2000 from 9 a.m. to 3:15 p.m. Registration begins at 8:30 a.m.

ADDRESSES: The meeting will be held at the Holiday Inn Select Hotel Old Town Alexandria, 480 King Street, Virginia, , 22314. The facility is located 3 miles from National Airport and 15 minutes from downtown Washington. The telephone number is (703) 549-6080. Space for observers is available on a first-come, first-served basis.

FOR FURTHER INFORMATION CONTACT: For technical information: Mr. John T. White, Alternate Designated Federal Officer, Certification and Compliance Division, U.S. EPA 2000 Traverwood Drive, Ann Arbor, MI 48105, Ph: 734/214-4353, FAX: 734/214-4821; email: white.johnt@epa.gov

For logistical and administrative information: Ms. Mary F. Green, FACA Management Officer, U.S. EPA 2000 Traverwood Drive, Ann Arbor, Michigan, Ph: 734/214-4411, Fax: 734/214-4053; email: green.mary@epa.gov.

For background on the Subcommittee: http://transaq.ce.gatech.edu/epatac.

Individuals or organizations wishing to provide comments to the Subcommittee should submit them to Mr. White at the address above by April 7. The Mobile Sources Technical Review Subcommittee expects that public statements presented at its meetings will not be repetitive of previously submitted oral or written statements.

SUPPLEMENTARY INFORMATION: During this meeting, the Subcommittee may also hear progress reports from some of its workgroups (including review and approval of the recommendations of the On-Board Diagnostics Workgroup prior to their submission to the CAAAC) as well as updates and announcements on activities of general interest, e.g., status of relevant EPA regulations, schedule for the release of MOBILE6, and an update on the reorganization of the Office of Transportation and Air Quality.

Dated: June 16, 2000.
Margo T. Oge,
Director, Office of Transportation and Air Quality.

[FR Doc. 00-16072 Filed 6-26-00; 8:45 am]

BILLING CODE 6560-50-P